DEPARTMENT OF HOUSING AND URBAN DEVELOPMENT

[Docket No. FR-6331-N-04]

Request for Information Relating to the Implementation of the Build America, Buy America Act; Extension of Public Comment Period

AGENCY: Office of the Secretary, Department of Housing and Urban Development (HUD).

ACTION: Request for information; extension of public comment period.

SUMMARY: Through today's notice, HUD announces that it is extending the public comment period on its “Request for Information Relating to the Implementation of the Build America, Buy America Act,” published in the Federal Register on June 1, 2022.

DATES: Comment Due Date: The comment due date of July 1, 2022, for the Request for Information published on June 1, 2022, at 87 FR 33193, is extended to July 15, 2022.

ADDRESSES: Interested persons are invited to submit comments responsive to this Request for Information to the Regulations Division, Office of General Counsel, Department of Housing and Urban Development, 451 7th Street SW, Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW, Room 10276, Washington, DC 20410-0500.

2. Electronic Submission of Comments. Interested persons may submit comments electronically through the Federal eRulemaking Portal at http://www.regulations.gov. HUD strongly encourages commenters to submit their feedback and recommendations electronically. Electronic submission of comments allows the commenter maximum time to prepare and submit a response, ensures timely receipt by HUD, and enables HUD to make comments immediately available to the public. Comments submitted electronically through the http://www.regulations.gov website can be viewed by other commenters and interested members of the public. Commenters should follow the instructions provided on that site to submit comments electronically.

Note: To receive consideration as public comments, responses must be submitted through one of the two methods specified above. It is not acceptable to submit comments by facsimile (fax) or electronic mail. Again, all submissions must refer to the docket number and title of the notice.

Public Inspection of Public Comments. All properly submitted comments and communications submitted to HUD will be available for public inspection and downloading at http://www.regulations.gov.

FOR FURTHER INFORMATION CONTACT: Contact Pamela Blumenthal, Office of Policy Development and Research, Department of Housing and Urban Development, 451 7th Street SW, Room 8138, Washington, DC 20410-0500; telephone number 202-402-7012 (this is not a toll-free number). Persons with hearing or speech impairments may access this number through TTY by calling the Federal Relay Service at 800-877-8339 (this is a toll-free number).

SUPPLEMENTARY INFORMATION: The Build America, Buy America Act (the Act) was enacted on November 15, 2021, as part of the Infrastructure Investment and Jobs Act (IIJA). Public Law 117-58. The Act establishes a domestic content procurement preference (the “Buy American Preference,” or “BAP”) that applies to HUD's Federal financial assistance for Federal infrastructure programs. On June 1, 2022, HUD published a Request for Information (RFI) in the Federal Register to seek public input on the implementation of the Build America, Buy America Act (the Act) as it applies to HUD's Federal Financial Assistance. 87 FR 33193.

The RFI specifically sought input on the potential documentation and information collection necessary to estimate the information collection burden and assist HUD in the development of a Paperwork Reduction Act (PRA) package associated with a proposed general applicability waiver to the Act's BAP that HUD published on April 29, 2022. 87 FR 26219. In this waiver notice, HUD stated that recipients of Federal Financial Assistance from HUD are unfamiliar with the BAP and additional information collection requirements, as HUD's programs have not previously been subject to a similar Buy American preference. Thus, HUD found a general applicability waiver of the BAP to be in the public interest until HUD had the opportunity to fully review public comments on how to effectively reduce the burden on the public arising from information collection necessary to implement the Act.

Though not directly related to the June 1, 2022, RFI, HUD published a second proposed general applicability waiver of the BAP to HUD's Federal Financial Assistance awards for Tribes, Tribally Designated Housing Entities (TDHEs), and other Tribal Entities. 87 FR 26221. As provided in that notice, given that the BAP is new to HUD's Federal Financial Assistance directed to Tribes, TDHEs, and other Tribal Entities and the potential impact of the BAP on Tribal recipients, HUD found it would counter to the public interest to apply the BAP prior to completion of the Tribal consultation process. A general applicability waiver would provide the Department with sufficient time to comply with HUD's Tribal consultation process in recognition of Tribes' right to self-government and to inform a tailored implementation for Tribal recipients.

HUD's June 1, 2022, RFI established a comment due date of July 1, 2022. HUD has determined that an extension of the deadline would provide the time needed for HUD Federal Financial Assistance recipients; Federal, State, local, and Tribal government officials; and relevant stakeholders to submit comments and provide the specific information requested. Therefore, HUD is announcing through this notice an extended public comment period, for an additional 14-day period, to July 15, 2022.

Marcia L. Fudge,
Secretary.

[FR Doc. 2022-13964 Filed 6-29-22; 8:45 am]

BILLING CODE 4210-67-P